DEPARTMENT OF TRANSPORTATION

Office of the Secretary

[Docket No. DOT-OST-2018-0151]

Privacy Act of 1974; Department of Transportation, Office of the Secretary of Transportation; DOT/ALL-27; Department of Transportation Training Programs

AGENCY: Office of the Departmental Chief Information Officer, Office of the Secretary of Transportation, DOT.

ACTION: Rescindment of Notices and Notice of a New System of Records.

SUMMARY: In accordance with the Privacy Act of 1974, the Department of Transportation's Office of the Secretary of Transportation (DOT/OST) intends to establish a DOT-wide System of Records titled, “DOT/ALL-27, Training Programs.” This system of records will allow the Department of Transportation, to include its Operating Administrations and Secretarial Offices, to collect and maintain contact, registration, and other information about Department of Transportation employees and other individuals related to participation in and management of Department of Transportation training programs. This system, titled Training Programs, will be included in the Department of Transportation's inventory of record systems. The Department also intends to rescind existing Notices for DOT/RITA-O12, TSI Online Catalog and Learning Management System”, and DOT/FHWA-221, “National Highway Institute website (NHIW) and Course Management Tracking System (CMTS)”, as these records will be part of the new DOT/ALL-27 described in this Notice.

DATES: Written comments should be submitted on or before December 27, 2018. The Department may publish an amended SORN in light of any comments received. This new system will be effective December 27, 2018.

ADDRESSES: You may submit comments, identified by docket number DOT-OST-2018-0151 by any of the following methods:

• Federal e-Rulemaking Portal: http://www.regulations.gov. Follow the instructions for submitting comments.

• Mail: Docket Management Facility, U.S. Department of Transportation, 1200 New Jersey Ave. SE, West Building Ground Floor, Room W12-140, Washington, DC 20590-0001.

• Hand Delivery or Courier: West Building Ground Floor, Room W12-140, 1200 New Jersey Ave. SE, between 9 a.m. and 5 p.m. ET, Monday through Friday, except Federal Holidays.

• Fax: (202) 493-2251.

Instructions: You must include the agency name and docket number DOT-OST-2018-0151. All comments received will be posted without change to http://www.regulations.gov, including any personal information provided.

Privacy Act: Anyone is able to search the electronic form of all comments received in any of our dockets by the name of the individual submitting the comment (or signing the comment, if submitted on behalf of an association, business, labor union, etc.). You may review DOT's complete Privacy Act statement in the Federal Register published on January 17, 2008 (73 FR 3316-3317).

Docket: For access to the docket to read background documents or comments received, go to http://www.regulations.gov or to the street address listed above. Follow the online instructions for accessing the docket.

FOR FURTHER INFORMATION CONTACT: For questions, please contact: Claire W. Barrett, Departmental Chief Privacy Officer, Privacy Office, Department of Transportation, Washington, DC 20590; privacy@dot.gov; or (202) 527-3284.

SUPPLEMENTARY INFORMATION:

I. Background

In accordance with the Privacy Act of 1974, 5 U.S.C. 552a, the Department of Transportation (DOT)/Office of the Secretary of Transportation (OST) proposes to rescind the current system of records notices for DOT/RITA-012 and DOT/FHWA-221, and issue a DOT system of records titled, “DOT/ALL-27 Training Programs.”

The Department of Transportation provides training courses to its employees, contractors, and others. The Department wishes to create a new system of records for training program registration and participation information, including information pertaining to training course participants, instructors and course developers, and others involved in training course creation, management, and delivery. The Department will use this information to monitor and manage registration in training courses, track and record participation and completion in DOT training courses, schedule courses, assess the effectiveness of training, identify training trends and needs, and schedule training classes and programs. This system of records excludes records associated with training provided by entities other than DOT and training records covered by the Office of Personnel Management's Government-wide System of Records Notice, OPM/GOVT-1, “General Personnel Records.” Because DOT-provided training records will be covered by this Department-wide notice, individual notices covering particular DOT offices are not necessary; therefore, this notice also rescinds DOT/RITA-012, “TSI Online Catalog and Learning Management System” and DOT/FHWA-221, “National Highway Institute website (NHIW) and Course Management and Tracking System (CMTS)”. The records covered by DOT/RITA-012 and DOT/FHWA-221 will be managed according to the new DOT/ALL-27.

The routine uses are compatible with the purposes for which the information was collected. Individuals whose personally identifiable information (PII) is in this system of records have provided it to DOT to enable DOT to document their participation in the course, ensure that the course scheduling and resources are allocated sufficiently to meet participant needs, and to share information with supervisors, instructors, and other entities as necessary to manage training classes and schedules, and verify participation in and completion of the course.

The information contained within this system of records will be collected directly from the individuals who are the subject of the record.

This new system will be included in DOT's inventory of record systems.

II. Privacy Act

The Privacy Act (5 U.S.C. 552a) governs the means by which the Federal Government collects, maintains, and uses personally identifiable information (PII) in a System of Records. A “System of Records” is a group of any records under the control of a Federal agency from which information about individuals is retrieved by name or other personal identifier. The Privacy Act requires each agency to publish in the Federal Register a System of Records notice (SORN) identifying and describing each System of Records the agency maintains, including the purposes for which the agency uses PII in the system, the routine uses for which the agency discloses such information outside the agency, and how individuals to whom a Privacy Act record pertains can exercise their rights under the Privacy Act (e.g., to determine if the system contains information about them and to contest inaccurate information).

In accordance with 5 U.S.C. 552a(r), DOT has provided a report of this system of records to the Office of Management and Budget and to Congress.

SYSTEM NAME AND NUMBER:

Department of Transportation (DOT)/ALL-27, Training Programs

SECURITY CLASSIFICATION:

Unclassified.

SYSTEM LOCATION:

Records are maintained at the Department of Transportation and in component offices of the Department of Transportation in both Washington, DC and field offices.

SYSTEM MANAGER(S):

Requests for training records should be submitted to the component office(s) that offers or sponsors the training. Contact information for system manager is provided at time of course registration and/or participation.

AUTHORITY FOR MAINTENANCE OF THE SYSTEM:

5 U.S.C. 301; 23 U.S.C. 504; and 49 U.S.C. 301, 5314, 5315, 20108, 30182, and 40108.

PURPOSE(S):

The purpose of this system is to manage, oversee, and document training provided to DOT employees, contractors, and others. This system will provide DOT with a means to document registration, participation, and completion of DOT provided training, document the particular training that is provided, identify training trends and needs, evaluate course instructors and course quality and context, and schedule training classes, programs, and instructors. The DOT also may use records from this system to document completion of training requirements for other DOT-mission purposes.

CATEGORIES OF INDIVIDUALS COVERED BY THE SYSTEM:

Current and former DOT employees, volunteers and contractors; any individual who has participated in or assisted with a DOT training program, including students and instructors; any other Federal employee or private individual, including contractors and others, who has participated in or assisted with training programs sponsored or operated by the DOT; and other participants in training programs, including instructors, course developers, observers, and interpreters.

CATEGORIES OF RECORDS IN THE SYSTEM:

Categories of records in the system include:

Individual's name;

Individual's date of birth;

Student or other identification number assigned to the individual

Address;

Phone number;

Email address;

Employer Name, address, and contact information, Occupation/Job Title;

Resume/Qualifications (for course instructors)

Applications;

Registration forms;

Course rosters and sign-in sheets;

Instructor lists;

Payment records, including financing, travel and related expenditures;

Grades and student evaluations;

Course evaluations;

Examination and testing materials; and

Other records and reports related to training.

RECORD SOURCE CATEGORIES:

Records are obtained from DOT employees and other individuals who are the subject of such records.

ROUTINE USES OF RECORDS MAINTAINED IN THE SYSTEM, INCLUDING CATEGORIES OF USERS AND THE PURPOSES OF SUCH USES:

In addition to those disclosures generally permitted under 5 U.S.C. 552a(b) of the Privacy Act, all or a portion of the records or information contained in this system may be disclosed outside DOT as a routine use pursuant to 5 U.S.C. 552a(b)(3).

System Routine Uses

(1) To organizations, including other government entities, sponsoring or providing remuneration for training;

(2) To other Federal agencies as needed to create class schedules, or determine qualifications for participation in classes as students or instructors;

(3) To educational institutions or training providers as evidence of participation or successful completion, as needed to continue education;

Department General Routine Uses

(4) To the appropriate agency, whether Federal, State, local, or foreign, charged with the responsibility of implementing, investigating, prosecuting, or enforcing a statute, regulation, rule or order, when a record in this system indicates a violation or potential violation of law, whether civil, criminal, or regulatory in nature, including any records from this system relevant to the implementation, investigation, prosecution, or enforcement of the statute, regulation, rule, or order that was or may have been violated;

(5) To a Federal, State, or local agency maintaining civil, criminal, or other relevant enforcement information or other pertinent information, such as current licenses, if necessary for DOT to obtain information relevant to a DOT decision concerning the hiring or retention or an employee, the issuance of a security clearance, the letting of a contract, or the issuance of a license, grant or other benefit;

(6) To a Federal agency, upon its request, in connection with the requesting Federal agency's hiring or retention of an employee, the issuance of a security clearance, the reporting of an investigation or an employee, the letting of a contract, or the issuance of a license, grant, or other benefit by the requesting agency, to the extent that the information requested is relevant and necessary to the requesting agency's decision on the matter;

(7) To the Department of Justice, or any other Federal agency conducting litigation, when (a) DOT, (b) any DOT employee, in his/her official capacity, or in his/her individual capacity if the Department of Justice has agreed to represent the employee, or (c) the United States or any agency thereof, is a party to litigation or has an interest in litigation, and DOT determines that the use of the records by the Department of Justice or other Federal agency conducting the litigation is relevant and necessary to the litigation; provided, however, that DOT determines, in each case, that disclosure of the records in the litigation is a use of the information contained in the records that is compatible with the purpose for which the records where collected;

(8) To parties in proceedings before any court or adjudicative or administrative body before which DOT appears when (a) DOT, (b) any DOT employee in his or her official capacity, or in his or her individual capacity where DOT has agreed to represent the employee, or (c) the United States or any agency thereof is a party to litigation or has an interest in the proceeding, and DOT determined that is relevant and necessary to the proceeding; provided, however, that DOT determines, in each case, that disclosure of the records in the proceeding is a use of the information contained in the records that is compatible with the purpose for which the records where collected;

(9) To the National Archives and Records Administration for an inspection under 44 U.S.C. 2904 and 2906;

(10) To another agency or instrumentality of any government jurisdiction for use in law enforcement activities, either civil or criminal, or to expose fraudulent claims; however, this routine use only permits the disclosure of names pursuant to a computer matching program that otherwise complies with the requirements of the Privacy Act;

(11) To appropriate agencies, entities, and persons, when (1) DOT suspects or has confirmed that the security or confidentiality of information in the system of records has been compromised; (2) DOT has determined that as a result of the suspected or confirmed compromise there is a risk of harm to economic or property interests, identity theft or fraud, or harm to the security or integrity of this system or other systems or programs (whether maintained by DOT or not) that rely on the compromised information; and (3) the disclosure made to such agencies, entities, or persons is reasonably necessary to assist in connection with DOT's efforts to respond to the suspected or confirmed compromise and prevent, minimize, or remedy such harm.;

(12) To the Office of Government Information Services (OGIS) for the purpose of resolving disputes between requesters seeking information under the Freedom of Information Act (FOIA) and DOT, or OGIS' review of DOT's policies, procedures, and compliance with FOIA;

(13) To DOT”s contractors and their agents, DOT's experts, consultants, and others performing or working on a contract, service, cooperative agreement, or other assignment for DOT, when necessary to accomplish an agency function related to this system of records.

(14) To an agency, organization, or individual for the purpose of performing an audit or oversight related to this system or records, provided that DOT determines the records are necessary and relevant to the audit or oversight activity. This routine use does not apply to intra-agency sharing authorized under Section (b)(1) of the Privacy Act; and

(15) To a Federal, State, local, tribal, foreign government, or multinational agency, either in response to a request or upon DOT's initiative, terrorism information (6 U.S.C. 485(a)(5), homeland security information (6 U.S.C. 482(f)(1), or law enforcement information (Guideline 2, report attached to White House Memorandum, “Information Sharing Environment,” Nov. 22, 2006), when DOT finds that disclosure of the record is necessary and relevant to detect, prevent, disrupt, preempt, or mitigate the effects of terrorist activities against the territory, people, and interests of the United States, as contemplated by the Intelligence Reform and Terrorism Prevention Act of 2004, Pub. L. 108-456, and Executive Order 13388 (Oct. 25, 2005).

POLICIES AND PRACTICES FOR STORAGE OF RECORDS:

Records in this system are stored electronically and/or on paper in secure facilities. Electronic records may be stored on magnetic disc, tape, digital media, and CD-ROM.

POLICIES AND PRACTICES FOR RETRIEVAL OF RECORDS:

Records will primarily be retrieved by individual's name, but may be retrieved by other identifiers in the system.

POLICIES AND PRACTICES FOR RETENTION AND DISPOSAL OF RECORDS:

Records are typically destroyed when three years old, or 3 years after superseded or obsolete, whichever is appropriate, in accordance with National Archives and Records Administration General Records Schedule 2.6, Item 010. General Records Schedule 2.6, Item 010, also permits agencies to retain these records for a longer period of time, when needed for business use.

ADMINITRATION, TECHNICAL, AND PHYSICAL SAFEGUARDS:

Records in this system are safeguarded in accordance with applicable rules and policies, including all applicable DOT automated systems security and access policies. Strict controls have been imposed to minimize the risk of compromising the information that is being stored. Access to records in this system is limited to those individuals who have a need to know the information for the performance of their official duties and who have appropriate clearances or permissions.

RECORD ACCESS PROCEDURES:

Individuals seeking notification of and access to any record contained in this system of records, or seeking to contest its content, may submit a request in writing to the System Manager at the address identified in “System Manager and Address” above. If an individual believes more than one component maintains Privacy Act records concerning him or her, the individual may submit the request to the Departmental Freedom of Information Act Office, U.S. Department of Transportation, Room W94-122, 1200 New Jersey Ave. SE, Washington, DC 20590, ATTN: FOIA/Privacy Act request.

When seeking records about yourself from this system of records or any other Departmental system of records your request must conform with the Privacy Act regulations set forth in 49 CFR part 10. You must sign your request, and your signature must either be notarized or submitted under 28 U.S.C. 1746, a law that permits statements to be made under penalty of perjury as a substitute for notarization. While no specific form is required, you may obtain forms for this purpose from the Chief Freedom of Information Act Officer, http://www.dot.gov/foia or 202.366.4542. In addition you should provide the following:

An explanation of why you believe the Department would have information on you;

• Identify which component(s) of the Department you believe may have the information about you;

• Specify when you believe the records would have been created;

• Provide any other information that will help the FOIA staff determine which DOT component agency may have responsive records; and

If your request is seeking records pertaining to another living individual, you must include a statement from that individual certifying his/her agreement for you to access his/her records.

Without this bulleted information the component(s) may not be able to conduct an effective search, and your request may be denied due to lack of specificity or lack of compliance with applicable regulations.

CONTESTING RECORD PROCEDURES:

See “Record Access Procedures” above.

NOTIFICATION PROCEDURE:

See “Record Access Procedures” above.

EXEMPTIONS CLAIMED FOR THE SYSTEM:

None.

HISTORY:

Not applicable.

Issued in Washington, DC on November 21, 2018,
Claire W. Barrett,
Departmental Chief Privacy Officer.

[FR Doc. 2018-25818 Filed 11-26-18; 8:45 am]

BILLING CODE 4910-9X-P